Title 3—

The President

Memorandum of June 8, 2021

Delegation of Authority Under Section 1217(c) of Public Law 116-283

Memorandum for the Secretary of State

By the authority vested in me as President by the Constitution and the laws of the United States of America, including section 301 of title 3, United States Code, I hereby delegate to the Secretary of State, in coordination with the Director of National Intelligence and the Secretary of Defense, the authority to submit to the Congress the reports required by section 1217(c) of Public Law 116-283 on verification and compliance regarding the “Agreement for Bringing Peace to Afghanistan Between the Islamic Emirate of Afghanistan which is not recognized by the United States as a state and is known as the Taliban and the United States of America.”

You are authorized and directed to publish this memorandum in the Federal Register.

THE WHITE HOUSE,

Washington, June 8, 2021

[FR Doc. 2021-13207

Filed 6-21-21; 8:45 am]

Billing code 4710-10-P